DEPARTMENT OF TRANSPORTATION

Federal Aviation Administration

Standard Operating Procedures (SOP) of the Aircraft Certification Service (AIR) Process for the Sequencing of Certification and Validation Projects

AGENCY: Federal Aviation Administration, DOT.

ACTION: Notice of availability and request for public comment.

SUMMARY: This notice announces the availability of and request for public comments on the Aircraft Certification Service (AIR) standard operating procedure (SOP) describing the process used to sequence certification projects that are anticipated to take more than 40 hours of FAA involvement to complete.

DATES: Comments must be received on or before October 3, 2011.

ADDRESSES: Send all comments on the SOP #: AIR-100-001; Standard Operating Procedure—Aircraft Certification Service Project Sequencing to: Federal Aviation Administration, Aircraft Certification Service, Aircraft Engineering Division, 950 L'Enfant Plaza, 5th Floor, SW., Washington, DC 20024. Attn: Renton S. P. Bean, AIR-103. You may deliver comments to: Federal Aviation Administration, 950 L'Enfant Plaza, 5th Floor, SW., Washington, DC 20024, or electronically submit comments to the following Internet address: 9-AWA-AVS-AIR-103-SOP@faa.gov. Include in the subject line of your message the following: SOP #: AIR-100-001; Standard Operating Procedure—Aircraft Certification Service Project Sequencing.

FOR FURTHER INFORMATION CONTACT: Renton S. Bean, Senior Aerospace Engineer, Federal Aviation Administration, Aircraft Certification Service, Aircraft Engineering Division, Technical and Administrative Support Branch, AIR-103, 950 L'Enfant Plaza, 5th Floor, SW., Washington, DC 20024. Telephone (202) 385-6301, FAX (202) 385-6475, or e-mail at: 9-AWA-AVS-AIR-103-SOP@faa.gov.

SUPPLEMENTARY INFORMATION:

Comments Invited

You are invited to comment on the SOP for the sequencing of certification and validation projects listed in this notice by sending such written data, views, or arguments to the above listed address. Please identify “SOP #: AIR-100-001; Standard Operating Procedure—Aircraft Certification Service Project Sequencing,” as the subject of your comments. You may also examine comments received on the SOP before and after the comment closing date at the FAA's Aircraft Engineering Division office located at, 950 L'Enfant Plaza, 5th Floor, SW., Washington, DC 20024, weekdays except Federal holidays, between 8:30 a.m. and 4:30 p.m. The Director of the Aircraft Certification Service will consider all communications received on or before the closing date before issuing the final document.

Background

In 2005, the Federal Aviation Administration instituted a project sequencing process to manage our limited resources to address both continued operational safety and certification project work. This SOP documents the process used for sequencing new certification and validation projects worked in its Aircraft Certification Offices (ACOs), Manufacturing Inspection District Offices (MIDOs), and Directorate Standards Staffs. All applications for new certification and validation projects requiring more than 40 hours of dedicated FAA work effort are prioritized, on a national basis, based primarily on the project's impact on safety and availability of resources. The certification and validation programs include: Type certificate (TC), Amended Type Certificate (ATC), Supplemental Type Certificated ATC), Amended Supplemental Type Certificate (ASTC), Type Design Changes, Type Validation, when the FAA is the Validating Authority, and Parts Manufacturer Approval (PMA). Prior to 2005, the FAA accepted and committed to work all certification and validation projects in the order they were received, and frequently had to divert resources from activities supporting our safety mission to meet certification commitments. A means to manage resources such that applicants' requests for services are properly balanced with the FAA's primary mission of ensuring continued operational safety of the existing fleet is essential. The FAA is publishing the SOP to ensure transparency of the existing sequencing process and to solicit feedback on how the process can be improved.

How to Obtain Copies

You can get an electronic copy of the SOP #: AIR-100-001; Standard Operating Procedure—Aircraft Certification Service Project Sequencing, via the Internet at http://www.faa.gov/aircraft/draft_docs/, and then select Policy, or by contacting the person named in the paragraph FOR FURTHER INFORMATION CONTACT.

Issued in Washington, DC, on August 26, 2011.
Susan J.M. Cabler,
Assistant Manager, Aircraft Engineering Division, Aircraft Certification Service.

[FR Doc. 2011-22360 Filed 8-31-11; 8:45 am]

BILLING CODE 4910-13-P